INTERNATIONAL TRADE COMMISSION

[Inv. No. 337-TA-498]

Certain Insect Traps; Notice of Commission Decision Not To Review an Initial Determination Terminating the Investigation in Part on the Basis of a Consent Order; Issuance of Consent Order

AGENCY: U.S. International Trade Commission.

ACTION: Notice.

SUMMARY: Notice is hereby given that the U.S. International Trade Commission has determined not to review an initial determination (ID) issued by the presiding administrative law judge (ALJ) in the above-captioned investigation partially terminating the investigation as to certain respondents' accused products on the basis of a consent order.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on September 12, 2003, based on a complaint filed by American Biophysics Corp. (“ABC”) of East Greenwich, Rhode Island. 68 FR 53752. The complaint, as supplemented, alleged violations of section 337 of the Tariff Act of 1930 in the importation into the United States, sale for importation, and/or sale within the United States after importation of certain insect traps that infringe the claims of ABC's U.S. Patents Nos. 6,286,249 (the ‘249 patent) and 6,145,243 (the ‘243 patent). The notice of investigation identified one respondent, Blue Rhino Corp. (“BRC”) of Winston-Salem, North Carolina. On December 8, 2003, the complaint and notice of investigation were amended to add four additional respondents: Blue Rhino Consumer Products, LLC (“BRCP”) and Blue Rhino Global Sourcing, LLC (“BRGS”), both of Winston-Salem, N.C.; Guangdong Dong Fang Imp. & Exp. Corp. (“Guangdong”) of Shenzhen, China; and Lentek International, Inc. (“Lentek”) of Kissimmee, Florida.

On March 29, 2004, pursuant to Commission rule 210.21(c)(I)(ii), respondents BRC, BRCP, BRGS, and Guangdong filed a motion for partial termination of the investigation and entry of a consent order. The motion requested termination of the investigation with respect to these respondents' older model accused insect traps, i.e., the SV-1000 model insect traps. On April 7, 2004, the respondents filed a revised proposed consent order and consent order stipulation, which included changes agreed to by complainant. On April 2, 2004, the Commission investigative attorney filed a response supporting the motion.

On April 9, 2004, the ALJ issued an ID (Order No. 23) granting the motion. No petitions for review of the ID were filed.

The authority for the Commission's determination is contained in section 337 of the Tariff Act of 1930, as amended (19 U.S.C. 1337), and in section 210.42 of the Commission's Rules of Practice and Procedure (19 CFR 210.42).

By order of the Commission.
Issued: April 28, 2004.
Marilyn R. Abbott,
Secretary to the Commission.

[FR Doc. 04-10016 Filed 5-3-04; 8:45 am]

BILLING CODE 7020-02-P